DEPARTMENT OF TRANSPORTATION

National Highway Traffic and Safety Administration

49 CFR Part 571

Docket No. NHTSA-04-17972

Federal Motor Vehicle Safety Standards; Occupant Crash Protection

AGENCY: National Highway Traffic Safety Administration (NHTSA); Department of Transportation (DOT).

ACTION: Correcting amendment.

SUMMARY: This rule corrects an inconsistency between the telltale requirements for air bag suppression systems and air bag on-off switches required under Federal Motor Vehicle Safety Standard (FMVSS) No. 208, Occupant crash protection and 49 CFR part 595 Subpart B, Retrofit on-off switches for air bags. This document resolves the problem by permitting manufacturers of vehicles equipped with air bag on-off switches and manufacturers of retrofit air bag on-off switches to use the abbreviation “pass” in lieu of “passenger” on the telltales.

DATES: This final rule is effective June 2, 2004.

FOR FURTHER INFORMATION CONTACT: For non-legal issues, you may contact Lou Molino, Office of Crashworthiness Standards, Light Duty Vehicle Division, NVS-112. Telephone: (202) 366-2264. Fax: (202) 493-2739. For legal issues, you may contact Rebecca MacPherson, Office of the Chief Counsel, NCC-20. Telephone: (202) 366-2992. Fax: (202) 366-3820.

You may send mail to these officials at the National Highway Traffic Safety Administration, 400 Seventh St., SW., Washington, DC 20590.

SUPPLEMENTARY INFORMATION: On May 12, 2000, NHTSA published a final rule phasing in new, advanced air bag requirements designed to minimize the risk of air bag injury while maintaining their benefits. 65 FR 30680. These requirements are part of FMVSS No. 208. As part of the final rule, the agency requires manufacturers employing suppression technologies to equip their vehicles with a telltale indicator that illuminates when the passenger air bag is automatically suppressed. Among other requirements, the final rule specified that the telltale must have the identifying words “PASSENGER AIR BAG OFF” on the telltale or within 25 mm thereof. This requirement was based on a preexisting requirement for vehicles equipped with air bag on-off switches contained in FMVSS No. 208 and for retrofit air bag on-off switches in 49 CFR Part 595.

On December 18, 2001, the agency responded to various petitions for reconsideration of the May 2000 final rule by issuing a new final rule making several amendments to the advanced air bag requirements. Among those amendments was a slight relaxation of the telltale wording requirement. Specifically, the December 2001 rule permitted manufacturers to use either “PASSENGER AIR BAG OFF” or “PASS AIR BAG OFF” on or within 25 mm of the suppression telltale. However, no corresponding conforming change was made to either the manual air bag on-off switch requirement of FMVSS No. 208 or to its corollary in 49 CFR Part 595.

In permitting the abbreviation for the word “passenger,” the agency stated, “[w]e have decided to allow manufacturers to abbreviate “passenger” to “pass,” since we do not believe the abbreviation will be confusing when combined with the rest of the required text. Allowing “pass” will also allow manufacturers to meet both the U.S. and Canadian requirements.” 66 FR 65376, 65400.

As this same rationale applies to the telltales for manual air bag on-off switches, the same changes in the regulatory text for those requirements should have been made at the same time as the change affecting suppression telltales was made. Today's rule makes that correction.

List of Subjects in 49 CFR Part 571

Imports, Motor vehicle safety, Motor vehicles, Rubber and rubber products, Tires.

In consideration of the foregoing, NHTSA amends 49 CFR part 571 as follows:

PART 571—FEDERAL MOTOR VEHICLE SAFTEY STANDARDS

1. The authority citation for Part 571 of Title 49 continues to read as follows:

Authority: 49 U.S.C. 322, 30111, 30115, 30117, and 30166; delegation of authority at 40 CFR 1.50.

2. Section 571.208 is amended by revising S4.5.4.3(b) to read as follows:

§ 571.208 Standard No. 208; Occupant crash protection.

* * * * *

S4.5.4.3 * * *

(b) Shall have the identifying words “PASSENGER AIR BAG OFF” or “PASS AIR BAG OFF” on the telltale or within 25 millimeters of the telltale;

* * * * *

3. Section 595.5 is amended by revising (b)(3)(ii)(B) to read as follows:

§ 595.5 Requirements.

* * * * *

(b) * * *

(3) * * *

(ii) * * *

(B) Shall have the identifying words “DRIVER AIR BAG OFF”, “PASSENGER AIR BAG OFF”, or “PASS AIR BAG OFF”, as appropriate, on the telltale or within 25 millimeters of the telltale;

* * * * *

Issued on May 26, 2004.
Stephen R. Kratzke,
Associate Administrator for Rulemaking.

[FR Doc. 04-12333 Filed 6-1-04; 8:45 am]

BILLING CODE 4910-59-P